DEPARTMENT OF ENERGY

Federal Energy Regulatory Commission

[Docket No. CP07-8-000]

Guardian Pipeline, L.L.C; Notice of Availability of the Draft Environmental Impact Statement for the Guardian Expansion and Extension Project

April 13, 2007.

The staff of the Federal Energy Regulatory Commission (FERC or Commission) has prepared this draft Environmental Impact Statement (EIS) for the construction and operation of the natural gas pipeline facilities (referred to as the G-II Project or Project) as proposed by Guardian Pipeline, L.L.C. (Guardian) in the above-referenced docket.

The draft EIS was prepared to satisfy the requirements of the National Environmental Policy Act (NEPA). The FERC staff concludes that approval of the G-II Project, with appropriate mitigating measures as recommended, would have limited adverse environmental impact. The draft EIS evaluates alternatives to the proposal, including system alternatives and pipeline route alternatives.

The Bureau of Indian Affairs, the U.S. Army Corps of Engineers (COE) are federal cooperating agencies for the development of this EIS. The State of Wisconsin Department of Natural Resources is also a cooperating agency. Cooperating agencies have jurisdiction by law or have special expertise with respect to any environmental impact involved with the proposal and is involved in the NEPA analysis or similar type of environmental analysis.

The purpose of the G-II Project is to provide the facilities necessary to provide about 537,200 decatherms per day of additional natural gas capacity to Guardian's existing pipeline system. The proposed additional capacity would facilitate the transport of natural gas to customers within the state of Wisconsin and provide those customers with the necessary infrastructure to support growth and competition within the natural gas marketplace. Guardian proposes to have the project constructed and operational by November 2008.

The draft EIS addresses the potential environmental effects of the construction and operation of the following natural gas pipeline facilities:

• 83.6 miles of 30-inch-diameter natural gas pipeline in Jefferson, Dodge, Fond du Lac, Calumet, Brown, and Outagamie Counties, Wisconsin;

• 25.9 miles of 20-inch-diameter natural gas pipeline in Brown and Outagamie Counties, Wisconsin;

• two new 39,000 horsepower (hp) electric motor driven compressor stations including the Sycamore Compressor Station located in the Sycamore Township in DeKalb County, Illinois and the Bluff Creek Compressor Station located in the Town of La Grange in Walworth County, Wisconsin;

• modifications to the existing Ixonia Meter Station in Jefferson County, Wisconsin and the construction of seven new meter stations in the Counties of Dodge, Fond du Lac, Calumet, Brown, and Outagamie Counties, Wisconsin;

• two new pig launcher facilities including a 30-inch launcher within Guardian's existing Ixonia Meter Station in Jefferson County, Wisconsin; a 30-inch-diameter receiver and 20-inch-diameter launcher within the proposed Fox Valley Meter Station in Brown County, Wisconsin; and a 20-inch-diameter receiver within the proposed West Green Bay Meter Station in Outagamie County Wisconsin; and

• six new mainline valves (MLV), four of which would occur along the 30-inch-diameter pipeline in the counties of Dodge, Fond du Lac, and Calumet, Wisconsin and two which would occur along the 20-inch-diameter pipeline in Brown and Outagamie Counties, Wisconsin.

Project construction would be initiated in the spring of 2008 and would be completed for a proposed in-service date in November 2008.

Comment Procedures and Public Meetings

Any person wishing to comment on the draft EIS may do so. To ensure consideration prior to a Commission decision on the proposal, it is important that we receive your comments before the date specified below. Please carefully follow these instructions to ensure that your comments are received and properly recorded:

• Send an original and two copies of your comments to: Kimberly D. Bose, Secretary, Federal Energy Regulatory Commission, 888 First Street, NE., Room 1A, Washington, DC 20426.

• Label one copy of the comments for the attention of the Gas Branch 1, DG2E; and Reference Docket No. CP07-8-000 on the original and both copies.

• Mail your comments so that they will be received in Washington, DC on or before May 29, 2007.

Please note that the Commission strongly encourages electronic filing (“eFiling”) of comments. Instructions on how to “eFile” can be found on the Commission's Web site at http://www.ferc.gov under the “Documents and Filings” link.

In addition to or in lieu of sending written comments, we invite you to attend the public comment meeting scheduled as follows:

May 15, 2007, 7 p.m. (CST)

Radisson Hotel and Conference Center of Green Bay 2040 Airport Drive

Green Bay, WI US

Telephone: (920) 405-6404

May 16, 2007, 7 p.m. (CST)

Bauer Ramada Plaza Hotel 1 North Main Street

Fond Du Lac, WI 54935

Telephone: (920) 923-3000

May 17, 2007, 7 p.m. (CST)

Olympia Conference Center 1350 Royale Mile Road

Oconomowoc, WI 53066

Telephone: (262) 369-4969

The public comment meetings will be posted on the FERC's calendar located at http://www.ferc.gov/EventCalendar/EventsList.aspx. Interested parties and individuals are encouraged to attend and present oral comments on the draft EIS. Transcripts of the meetings will be prepared.

After these comments are reviewed, any significant new issues are investigated, and modifications are made to the draft EIS, a final EIS will be published and distributed by the FERC staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 502-8371.

A limited number of hard copies and CD copies of the draft EIS are available from the Public Reference Room identified above. Copies of the draft EIS have been mailed to federal, state, and local agencies; public interest groups; individuals and affected landowners who requested a copy of the draft EIS or provided comments during scoping; libraries; newspapers; and parties to this proceeding.

Additional information about the project is available from the Commission's Office of External Affairs, at 1-866-208-FERC or on the FERC Internet Web site (http://www.ferc.gov).

To access information via the FERC Web site click on the “eLibrary” link then click on “General Search” and enter the docket number excluding the last three digits in the Docket Number field. Be sure you have selected an appropriate date range. The “eLibrary” link provides access to the texts for formals documents issued by the Commission, such as orders, notices, and rulemakings. For assistance with “eLibrary”, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. To learn more about “eSubscription” and to sign up for this service please go to http://www.ferc.gov/esubscribenow.htm.

Kimberly D. Bose,
Secretary.

[FR Doc. E7-7566 Filed 4-19-07; 8:45 am]

BILLING CODE 6717-01-P